ENVIRONMENTAL PROTECTION AGENCY

[EPA EPA-HQ-OLEM-2022-0174; FRL10137-01-OLEM]

Proposed Information Collection Request; Comment Request; Statement Supporting the Collection of Information for Accidental Release Prevention Requirements: Risk Management Programs Under Section 112(r) of the Clean Air Act, as Amended; Safer Communities by Chemical Accident Prevention, EPA ICR Number 2725.01, OMB Control Number 2050-NEW

AGENCY: Environmental Protection Agency.

ACTION: Notice.

SUMMARY: The Environmental Protection Agency (EPA or Agency) is planning to submit an information collection request (ICR), Accidental Release Prevention Requirements: Risk Management Programs under the Clean Air Act, as amended; Safer Communities by Chemical Accident Prevention, (EPA ICR Number 2725.01, OMB Control Number 2050-NEW) to the Office of Management and Budget (OMB) for review and approval in accordance with the Paperwork Reduction Act (PRA). Before doing so, EPA is soliciting public comments on specific aspects of the proposed information collection as described below. This is a new ICR. An agency may not conduct or sponsor and a person is not required to respond to a collection of information unless it displays a currently valid OMB control number.

DATES: Comments must be submitted on or before October 28, 2022.

ADDRESSES: Submit your comments, referencing Docket ID No. EPA-HQ-OEM-2022-0174, to EPA online using www.regulations.gov (our preferred method) or by mail to EPA Docket Center, Environmental Protection Agency, Mail Code 28221T, 1200 Pennsylvania Ave., NW, Washington, DC 20460, or to OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Wendy Hoffman, Office of Emergency Management, Mail Code 5104A, Environmental Protection Agency, 1200 Pennsylvania Ave, NW, Washington, DC 20460; telephone number: (202) 564-8794; email address: hoffman.wendy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The statutory authority for this action is provided by section 112(r) of the Clean Air Act (CAA) as amended (42 U.S.C. 7412(r)). Each modification of the RMP rule that EPA proposes in this document is based on EPA's rulemaking authority under CAA section 112(r)(7) (42 U.S.C. 7412(r)(7)). CAA section 307(d) sets out requirements for the content of proposed and final rules, the docket for each rulemaking, opportunities for oral testimony on proposed rulemakings, the length of time for comments, and judicial review. The agencies implementing the Risk Management Program rule use RMPs to evaluate compliance with the Chemical Accident Prevention Provisions in 40 CFR part 68 and to identify sources for inspection that may pose significant risks to the community. Citizens may use the information to assess and address chemical hazards in their communities and to respond appropriately in the event of a release of a regulated substance.

The purpose of this action is to propose changes to the current RMP rule to improve safety at facilities that use and distribute hazardous chemicals. EPA believes that the RMP regulations have been effective in preventing and mitigating chemical accidents in the United States and that the proposed revisions, by giving special consideration to concerns about climate change and environmental justice and building on lessons learned from the current regulatory program, could further protect human health and the environment from chemical hazards through advancement of process safety. These revisions are informed by EPA's review of the current RMP rule and information EPA gathered from public listening sessions held in June and July 2021.

The proposed revisions seek to improve chemical process safety, assist in planning, preparedness, and responding to RMP accidents, and improve public awareness of chemical hazards at regulated sources. To accomplish this, these proposed provisions include several changes to the accident prevention program requirements, enhancements to the emergency preparedness requirements, increased public availability of chemical hazard information, and several other changes to certain regulatory definitions or points of clarification.

Form Numbers: None.

Respondents/affected entities: The industries that are likely to be affected by the requirements in the proposed regulations fall into numerous North American Industry Classification System (NAICS) categories. The types of facilities affected by the proposed rule range from petroleum refineries and large chemical manufacturers to water and wastewater treatment systems; chemical and petroleum wholesalers and terminals; food manufacturers, packing plants, and other cold storage facilities with ammonia refrigeration systems; agricultural chemical distributors; midstream gas plants; and a limited number of other sources that use RMP-regulated substances.

Respondent's obligation to respond: Mandatory (CAA sections 112(r)(7)(B)(i) and (ii), CAA section 112(r)(7)(B)(iii), 114(c), CAA 114(a)(1)).

Estimated number of respondents: 14,226.

Frequency of response: On occasion.

Total estimated burden: 797,642 hours (per year). Burden is defined at 5 CFR 1320.03(b).

Total estimated cost: $79,248,522 (per year); includes $2,817,907 annual operations and maintenance costs and $78,400 annual capital costs (per year).

Changes in estimates: This a new ICR so there is no change in total estimated burden.

Donna Salyer,
Director, Office of Emergency Management.

[FR Doc. 2022-18544 Filed 8-26-22; 8:45 am]

BILLING CODE 6560-50-P